DEPARTMENT OF COMMERCE

International Trade Administration

[C-533-937, C-570-187]

Overhead Door Counterbalance Torsion Springs From India and the People's Republic of China: Postponement of Preliminary Determinations in the Countervailing Duty Investigations

AGENCY: Enforcement and Compliance, International Trade Administration, Department of Commerce.

DATES: Applicable January 2, 2025.

FOR FURTHER INFORMATION CONTACT: Zachary Shaykin at (202) 482-2638 (India); Laurel Smalley at (202) 482-3456 (the People's Republic of China (China)), AD/CVD Operations, Enforcement and Compliance, International Trade Administration, U.S. Department of Commerce, 1401 Constitution Avenue NW, Washington, DC 20230.

SUPPLEMENTARY INFORMATION:

Background

On November 18, 2024, the U.S. Department of Commerce (Commerce) initiated countervailing duty (CVD) investigations of U.S. imports of overhead door counterbalance torsion springs (overhead door springs) from India and China.¹ Currently, the preliminary determinations are due no later than January 22, 2025.

¹ See Overhead Door Counterbalance Torsion Springs from the People's Republic of China and India: Initiation of Countervailing Duty Investigations, 89 FR 92901 (November 25, 2024).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until not later than 130 days after the date on which Commerce initiated the investigation if: (A) the petitioner makes a timely request for a postponement; or (B) Commerce concludes that the parties concerned are cooperating, the investigation is extraordinarily complicated, and additional time is necessary to make a preliminary determination. Under 19 CFR 351.205(e), the petitioner must submit a request for postponement 25 days or more before the scheduled date of the preliminary determination and must state the reasons for the request. Commerce will grant the request unless it finds compelling reasons to deny the request.

On December 20, 2024, the petitioners ² submitted timely requests that Commerce postpone the preliminary determinations in the CVD investigations of overhead door springs from India and China.³ The petitioners requested postponements to provide Commerce with additional time to review and analyze questionnaire responses and accurately determine countervailable subsidy rates.⁴

² The petitioners in these investigations are IDC Group, Inc., Iowa Spring Manufacturing, Inc., and Service Spring Corp. (the petitioners).

³ See Petitioners' Letters, “Overhead Door Counterbalance Torsion Springs from India—Petitioners' Request for Postponement of Preliminary Determination,” dated December 20, 2024, and “Overhead Door Counterbalance Torsion Springs from the People's Republic of China—Petitioners' Request for Postponement of Preliminary Determination,” dated December 20, 2024.

⁴ Id. at 2.

In accordance with 19 CFR 351.205(e), the petitioners have stated the reasons for requesting a postponement of the preliminary determinations, and Commerce finds no compelling reason to deny the requests. Therefore, in accordance with section 703(c)(1)(A) of the Act, Commerce is postponing the deadline for the preliminary determinations in these investigations until not later than 130 days after the date on which Commerce initiated these investigations, i.e., March 28, 2025. Pursuant to section 705(a)(1) of the Act and 19 CFR 351.210(b)(1), the deadline for the final determinations in these investigations will continue to be 75 days after the date of the preliminary determinations.

This notice is issued and published pursuant to section 703(c)(2) of the Act and 19 CFR 351.205(f)(1).

Dated: December 26, 2024.
Abdelali Elouaradia,
Deputy Assistant Secretary for Enforcement and Compliance.

[FR Doc. 2024-31485 Filed 12-31-24; 8:45 am]

BILLING CODE 3510-DS-P